DEPARTMENT OF COMMERCE

National Institute of Standards and Technology

Announcement of a Meeting To Discuss an Opportunity To Join a Cooperative Research and Development Consortium on High Resolution Diffraction and Reflectometry Standards

AGENCY: National Institute of Standards and Technology, Commerce.

ACTION: Notice of Public Meeting.

SUMMARY: The National Institute of Standards and Technology (NIST) invites interested parties to attend a meeting on March 29, 2001 to discuss the possibility of setting up a cooperative research consortium. The objectives of this consortium are (1) To define the factors that limit accuracy and precision in high resolution X-ray diffraction and reflectometry analyses of semiconductor materials, and (2) to assist the consortium members in implementing high resolution X-ray diffraction and reflectometry measurements.

DATES: The meeting will take place on March 29, at 10:00 a.m. Interested parties should contact NIST to confirm their interest at the address, telephone number or FAX number shown below.

ADDRESSES: The meeting will take place in NIST North (820), Room 201, National Institute of Standards and Technology, Gaithersburg, MD 20899-8422.

FOR FURTHER INFORMATION CONTACT: Dr. Richard J. Matyi, Physics Building (221), Room A143, National Institute of Standards and Technology, Gaithersburg, MD 20899-0001. Telephone: 301-975-4272; FAX: 301-975-3038; e-mail: richard.matyi@nist.gov.

SUPPLEMENTARY INFORMATION: Any program undertaken will be within the scope and confines of The Federal Technology Transfer Act of 1986 (Public Law 99-502, 15 U.S.C. 3710a), which provides federal laboratories including NIST, with the authority to enter into cooperative research agreements with qualified parties. Under this law, NIST may contribute personnel, equipment, and facilities but no funds to the cooperative research program. This is not a grant program.

The R&D staff of each industrial partner in the consortium will be able to interact with NIST researchers on generic needs for high resolution X-ray diffraction and reflectometry measurements on semiconductor materials. Partners will have an opportunity to work with NIST researchers to identify the factors that limit accuracy and precision in high resolution X-ray diffraction and reflectometry analysis, and to participate in programs to improve the accuracy and precision of these measurements in their own facilities.

Dated: March 5, 2001.
Karen H. Brown,
Acting Director.

[FR Doc. 01-5849 Filed 3-8-01; 8:45 am]

BILLING CODE 3510-13-M